NATIONAL AERONAUTICS AND SPACE ADMINISTRATION

[03-012]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Ms. Nancy Kaplan, Code AO, National Aeronautics and Space Administration, Washington, DC 20546-0001.

FOR FURTHER INFORMATION CONTACT: Ms. Nancy Kaplan, NASA Reports Officer, (202) 358-1372.

Title: BOREAS Data User Satisfaction Survey.

OMB Number: 2700-.

Type of review: New collection.

Need and Uses: NASA will utilize the information collected to improve the data, documentation, ordering processes, and services provided to users of BOREAS data.

Affected Public: Not-for-profit institutions; business or other for-profit; Federal government; State, local or tribal government.

Number of Respondents: 50.

Responses Per Respondent: 1.

Annual Responses: 50.

Hours Per Request: 30 min.

Annual Burden Hours: 25.

Frequency of Report: On occasion.

Patricia Dunnington,
Deputy Chief Information Officer, Office of the Administrator.

[FR Doc. 03-3426 Filed 2-11-03; 8:45 am]

BILLING CODE 7510-01-P